DEPARTMENT OF ENERGY

Federal Energy Regulatory Commission

[Docket No. RP96-359-016]

Transcontinental Gas Pipe Line Corporation; Notice of Filing

June 3, 2003.

Take notice that on May 29, 2003, Transcontinental Gas Pipe Line Corporation (Transco) tendered for filing a copy of the executed service agreement amendment that contains a negotiated delivery point facilities surcharge (facilities surcharge) under Transco's Rate Schedule FT for the costs of the Westmore Road Meter Stations, a delivery point to Washington Gas Light Company (WGL). The effective date of this facilities surcharge is June 1, 2003, which is the anticipated in-service date of the Westmore Road Meter Stations.

Transco states that Transco and WGL are parties to a service agreement, dated January 1, 1996, under Transco's Rate Schedule FT for firm transportation service on Transco's pipeline system. Transco further states that it has agreed to construct the Westmore Road Meter Stations, a new delivery point to WGL located on Transco's main line in Montgomery County, Maryland. Transco asserts that pursuant to section 20.7 of the General Terms and Conditions of Transco's FERC Gas Tariff, Transco and WGL have executed an amendment to the service agreement to add Exhibit C thereto to include a facilities surcharge for the Westmore Road Meter Stations in addition to the applicable rates and charges for WGL's firm transportation service under Rate Schedule FT.

Transco states that the effective date of this facilities surcharge is June 1, 2003, which is the anticipated in-service date of the Westmore Road Meter Stations.

Transco states that copies of the filing are being mailed to its affected customers and interested state commissions.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 10, 2003.

Magalie R. Salas,
Secretary.

[FR Doc. 03-14518 Filed 6-9-03; 8:45 am]

BILLING CODE 6717-01-P